NUCLEAR REGULATORY COMMISSION

[[NRC-2021-0001]

Sunshine Act Meetings

TIME AND DATE: Weeks of May 10, 17, 24, 31, June 7, 14, 2021.

PLACE: Commissioners' Conference Room, 11555 Rockville Pike, Rockville, Maryland.

STATUS: Public and closed.

MATTERS TO BE CONSIDERED:

Week of May 10, 2021

Tuesday, May 11, 2021

10:00 a.m. Briefing on Security Issues (Closed Ex. 1)

Week of May 17, 2021—Tentative

There are no meetings scheduled for the week of May 17, 2021.

Week of May 24, 2021—Tentative

Tuesday, May 25, 2021

9:00 a.m. Strategic Programmatic Overview of the Fuel Facilities and the Spent Fuel Storage and Transportation Business Lines (Public Meeting) (Contact: Damaris Marcano: 301-415-7328)

Additional Information: Due to COVID-19, there will be no physical public attendance. The public is invited to attend the Commission's meeting live by webcast at the Web address— https://video.nrc.gov/.

Week of May 31, 2021—Tentative

There are no meetings scheduled for the week of May 31, 2021.

Week of June 7, 2021—Tentative

Tuesday, June 8, 2021

10:00 a.m. Briefing on Human Capital and Equal Employment Opportunity (Public Meeting) (Contact: Anne DeFrancisco: 610-337-5078)

Additional Information: Due to COVID-19, there will be no physical public attendance. The public is invited to attend the Commission's meeting live by webcast at the Web address— https://video.nrc.gov/.

Thursday, June 10, 2021

10:00 a.m. Briefing on Results of the Agency Action Review Meeting (Public Meeting) (Contact: Nicole Fields: 630-829-9570)

Additional Information: Due to COVID-19, there will be no physical public attendance. The public is invited to attend the Commission's meeting live by webcast at the Web address— https://video.nrc.gov/

Week of June 14, 2021—Tentative

There are no meetings scheduled for the week of June 14, 2021.

CONTACT PERSON FOR MORE INFORMATION: For more information or to verify the status of meetings, contact Wesley Held at 301-287-3591 or via email at Wesley.Held@nrc.gov. The schedule for Commission meetings is subject to change on short notice.

The NRC Commission Meeting Schedule can be found on the internet at: https://www.nrc.gov/public-involve/public-meetings/schedule.html.

The NRC provides reasonable accommodation to individuals with disabilities where appropriate. If you need a reasonable accommodation to participate in these public meetings or need this meeting notice or the transcript or other information from the public meetings in another format (e.g., braille, large print), please notify Anne Silk, NRC Disability Program Specialist, at 301-287-0745, by videophone at 240-428-3217, or by email at Anne.Silk@nrc.gov. Determinations on requests for reasonable accommodation will be made on a case-by-case basis.

Members of the public may request to receive this information electronically. If you would like to be added to the distribution, please contact the Nuclear Regulatory Commission, Office of the Secretary, Washington, DC 20555, at 301-415-1969, or by email at Wendy.Moore@nrc.gov or Tyesha.Bush@nrc.gov.

The NRC is holding the meetings under the authority of the Government in the Sunshine Act, 5 U.S.C. 552b.

Dated: May 5, 2021.
For the Nuclear Regulatory Commission.
Wesley W. Held,
Policy Coordinator, Office of the Secretary.

[FR Doc. 2021-09875 Filed 5-5-21; 4:15 pm]

BILLING CODE 7590-01-P